FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 16, 2010.

A. Federal Reserve Bank of Richmond (A. Linwood Gill, III, Vice President) 701 East Byrd Street, Richmond, Virginia 23261-4528:

1. James E. Ukrop; The Third Amended and Restated James Edward Ukrop Revocable Trust, James E. Ukrop, Trustee; Robert Stephen Ukrop; The Amended and Restated Robert Stephen Ukrop Revocable Trust, Robert Stephen Ukrop, Trustee; Robert Scott Ukrop; The Amendment and Restatement of the Robert Scott Ukrop Revocable Declaration of Trust, Robert Scott Ukrop, Trustee; Joseph E. Ukrop; The Robert Stephen Ukrop, Revocable Trust, Joseph Ukrop, Jr., Trustee; Jacquelin Ukrop Aronson; The Nancy Joseph Ukrop Kantner Revocable Trust, Nancy Joseph Ukrop Kantner, Trustee; Robert Stephen Ukrop, Trustee of Trust f/b/o Nancy Joseph Ukrop Kantner; and Jayne B. Ukrop, Trustee of Trust f/b/o Nancy Joseph Ukrop Kantner, all of Richmond, Virginia; The Joseph Edward Ukrop Revocable Trust, Joseph E. Ukrop, Trustee; Robert Stephen Ukrop, Jr.; The Jeffrey Brown Ukrop Revocable Trust, Jeffrey Brown Ukrop, Trustee; Nancy Joseph Ukrop Kantner, all of Midlothian, Virginia; The Jacquelin Ukrop Aronson Revocable Trust, Jacquelin Ukrop Aronson, Trustee; and Jeffrey Brown Ukrop, Glen Allen, Virginia; to acquire voting shares of Union First Market Bankshares Corporation, and thereby indirectly acquire voting shares of Union First Market Bank, both of Richmond, Virginia.

B. Federal Reserve Bank of Minneapolis (Jacqueline G. King, Community Affairs Officer) 90 Hennepin Avenue, Minneapolis, Minnesota 55480-0291:

1. Aaron Matthew Ness, Michael Forrest Ness and Robert Hunter Ness, as Co-Trustees of the Ness Irrevocable Family Trust; Diane Jean Ness, individually; Aaron Matthew Ness, individually; Robert Hunter Ness, individually, and as Trustee of the Robert Hunter Ness Roth IRA, all of Yankton, South Dakota; Michael Forrest Ness, Sioux Falls, South Dakota, individually; to join Larry F. Ness, Yankton, South Dakota, individually and as Trustee of the Larry F. Ness 2009 Grantor Retained Annuity Trust, Yankton, South Dakota, and as Trustee of the Larry F. Ness Individual Retirement Account, Yankton, South Dakota, as a group acting in concert; to retain current, and acquire additional voting shares of First Dakota Financial Corporation, and thereby indirectly retain current, and acquire additional voting shares of First Dakota National Bank, both of Yankton, South Dakota.

Board of Governors of the Federal Reserve System, May 26, 2010.
Robert deV. Frierson,
Deputy Secretary of the Board.

[FR Doc. 2010-13034 Filed 5-28-10; 8:45 am]

BILLING CODE 6210-01-S